NATIONAL CREDIT UNION ADMINISTRATION

No FEAR Act Notice

AGENCY: National Credit Union Administration (NCUA).

ACTION: Notice.

SUMMARY: The NCUA is providing to its employees this notice of employee rights and protections under the Notification and Federal Employees Antidiscrimination and Retaliation Act of 2002 (the No FEAR Act).

DATES: The NCUA is required to provide initial notice to employees by November 17, 2006, and at the end of each successive fiscal year. The NCUA must also provide the notice to new employees within 90 calendar days of entering duty.

FOR FURTHER INFORMATION CONTACT: For additional information, contact Annette Tapia, Staff Attorney, Office of General Counsel, at (703) 518-6556, or Chrisanthy Loizos, Director, Equal Opportunity Programs, at (703) 518-6326.

SUPPLEMENTARY INFORMATION: The No FEAR Act requires that each federal agency provide public notification of its initial No FEAR Act Notice to employees. This notice provides employees, former employees and applicants further notification of the rights and remedies available to them under the antidiscrimination laws and whistleblower protection laws.

By the National Credit Union Administration Board on November 7, 2006.
Mary Rupp,
Secretary of the Board.

For the reasons discussed above, NCUA is issuing the No FEAR Act notice to its employees, former employees, and applicants as follows:

No FEAR Act Notice

On May 15, 2002, Congress enacted the No FEAR Act. One purpose of the Act is to “require that Federal agencies be accountable for violations of antidiscrimination and whistleblower protection laws.” No FEAR Act, 107 P. L. 174, 116 Stat. 566, Summary (2002). In support of this purpose, Congress found that “agencies cannot be run effectively if those agencies practice or tolerate discrimination.” Id. at 101(1).

The Act also requires the NCUA to provide this notice to federal employees, former federal employees and applicants for federal employment to inform you of the rights and protections available to you under federal antidiscrimination and whistleblower protection laws.

Antidiscrimination Laws

A federal agency cannot discriminate against an employee or applicant with respect to the terms, conditions or privileges of employment on the basis of race, color, religion, sex, national origin, age, disability, marital status or political affiliation. Discrimination on these bases is prohibited by one or more of the following statutes: 5 U.S.C. 2302(b)(1), 29 U.S.C. 206(d), 29 U.S.C. 631, 29 U.S.C. 633a, 29 U.S.C. 791 and 42 U.S.C. 2000e-16.

If you believe that you have been the victim of unlawful discrimination on the basis of race, color, religion, sex, national origin or disability, you must contact an Equal Employment Opportunity (EEO) counselor within 45 calendar days of the alleged discriminatory action. Alternatively, in a personnel action you must contact an EEO counselor within 45 calendar days of the effective date of the action, before you can file a formal complaint of discrimination with your agency. See, e.g., 29 CFR part 1614. If you believe that you have been the victim of unlawful discrimination on the basis of age, you must either contact an EEO counselor as noted above or give notice of intent to sue to the Equal Employment Opportunity Commission (EEOC) within 180 calendar days of the alleged discriminatory action. If you are alleging discrimination based on marital status or political affiliation, you may file a written complaint with the U.S. Office of Special Counsel (OSC) (see contact information below). Alternatively, or in some cases additionally, you may be able to pursue a discrimination complaint by filing a grievance through the agency's administrative or negotiated grievance procedures, if such procedures apply and are available.

Whistleblower Protection Laws

NCUA employees with authority to take, direct others to take, recommend or approve any personnel action must not use that authority to take or fail to take, a personnel action against an employee or applicant because that individual disclosed information that is reasonably believed to evidence violations of law, rule or regulation; gross mismanagement; gross waste of funds; an abuse of authority; or a substantial and specific danger to public health or safety, unless an Executive Order specifically requires such information to be kept secret in the interest of national defense or the conduct of foreign affairs.

Retaliation against an employee or applicant for making a protected disclosure is prohibited by 5 U.S.C. 2302(b)(8). If you believe that you have been the victim of whistleblower retaliation, you may file a written complaint (Form OSC-11) with the OSC at 1730 M Street, NW., Suite 218, Washington, DC 20036-4505 or online through the OSC Web site— http://www.osc.gov.

The NCUA may not discharge or otherwise discriminate against any employee with respect to compensation, terms, conditions, or privileges of employment because the employee (or any person acting pursuant to the request of the employee) provided information to the NCUA or the Attorney General regarding any possible violation of any law or regulation by any credit union or the NCUA; any director, officer, committee member, or employee of any credit union; or any officer or employee of the NCUA. 12 U.S.C. 1790b(a)(2).

In addition, any employee or former employee of the NCUA who believes he or she has been discharged or discriminated against in violation of 12 U.S.C. 1790b(a)(2) may file a civil action in the appropriate United States district court before the close of the 2-year period beginning on the date of such discharge or discrimination. The complainant must also file a copy of the complaint initiating such action with the NCUA Board. 12 U.S.C. 1790b(b).

If the district court determines that the NCUA violated 12 U.S.C. 1790b(a)(2), it may order the NCUA to reinstate the employee to his or her former position, pay compensatory damages, or take other appropriate actions to remedy any past discrimination. 12 U.S.C. 1790b(c).

Retaliation for Engaging in Protected Activity

NCUA cannot retaliate against an employee or applicant because that individual exercises his or her rights under any of the federal antidiscrimination or whistleblower protection laws listed above. If you believe you are the victim of retaliation for engaging in protected activity, you must follow, as appropriate, the procedures described in the antidiscrimination laws and whistleblower protection laws sections, or, if applicable, the administrative or negotiated grievance procedures in order to pursue any legal remedy.

Disciplinary Actions

Under existing laws, NCUA retains the right, where appropriate, to discipline a federal employee for conduct that is inconsistent with federal antidiscrimination and whistleblower protection laws up to and including removal. If OSC has initiated an investigation under 5 U.S.C. 1214, however, according to 5 U.S.C. 1214(f), agencies must seek approval from the Special Counsel to discipline employees for, among other activities, engaging in prohibited retaliation. Nothing in the No FEAR Act alters existing laws or permits NCUA to take unfounded disciplinary action against a federal employee or to violate the procedural rights of a federal employee who has been accused of discrimination.

Additional Information

For further information regarding the No FEAR Act regulations, refer to 5 CFR part 724, as well as the appropriate offices within the NCUA (e.g., Equal Opportunity Programs, Office of General Counsel, or Office of Human Resources). Additional information regarding federal antidiscrimination, whistleblower protection and retaliation laws can be found at the EEOC Web site— http://www.eeoc.gov and the OSC Web site— http://www.osc.gov.

Existing Rights Unchanged

Neither the No FEAR Act nor this notice creates, expands or reduces any rights otherwise available to any employee, former employee or applicant under the laws of the United States, including the provision of law specified in 5 U.S.C. 2302(d), providing the rights and remedies available to employees and applicants for discrimination on the basis of race, color, religion, sex, national origin, age, handicap, marital status or political affiliation are not lessened or extinguished by the section.

[FR Doc. E6-19291 Filed 11-15-06; 8:45 am]

BILLING CODE 7535-01-P